DEPARTMENT OF STATE

[Public Notice: 12426]

Determination Under Section 620(Q) of the Foreign Assistance Act of 1961 Relating to Assistance for Ukraine

Pursuant to the authority vested in me by section 620(q) of the Foreign Assistance Act of 1961 (FAA), Executive Order 12163, and Department of State Delegation of Authority 513, I hereby determine that assistance for Ukraine is in the national interest of the United States and thereby waive the application of section 620(q) of the FAA with respect to such assistance.

This determination shall be published in the Federal Register and, with the accompanying Memorandum of Justification, shall be transmitted to Congress.

Dated: January 23, 2024.
Richard R. Verma,
Deputy Secretary of State for Management and Resources, Department of State.

Editorial Note: This document was received for publication by the Office of the Federal Register on June 12, 2024.

[FR Doc. 2024-13279 Filed 6-14-24; 8:45 am]

BILLING CODE 4710-23-P